DEPARTMENT OF HOUSING AND URBAN DEVELOPMENT

[Docket No. FR-5003 N-01]

Notice of Funding Availability for the Section 202 Demonstration Pre-Development Grant Program

AGENCY: Office of the Assistant Secretary for Housing—Federal Housing Commissioner, HUD.

ACTION: Notice of funding availability.

Overview Information

A. Federal Agency Name: Department of Housing and Urban Development, Office of Housing.

B. Funding Opportunity Title: Section 202 Demonstration Pre-Development Grant Program.

C. Announcement Type: Initial announcement.

D. Funding Opportunity Number: The OMB approval number for this NOFA is 2502-0267. The Federal Register number is FR-5003-N-01.

E. Catalog of Federal Domestic Assistance (CFDA) Number(s): 14.157, Section 202 Demonstration Pre-Development Grant Program.

F. Dates: The application submission date is Tuesday, June 6, 2006. All applications must be submitted and received by http://www.grants.gov no later than 11:59:59 p.m. eastern time on the application submission date. Refer to the General Section of the SuperNOFA (70 FR 13576), published March 21, 2005, and Section IV of this program NOFA for further information about application submission, delivery, and timely receipt requirements.

G. Additional Overview Content Information: Private nonprofit organizations and nonprofit consumer cooperatives interested in applying for funding under this program should carefully review the General Section of the FY 2005 SuperNOFA (70 FR 13576), published March 21, 2005; the Section 202 Program NOFA (70 FR 14187), published March 21, 2005; and the information detailed in this program NOFA.

Full Text of Announcement

I. Funding Opportunity Description

A. Program Description

The purpose of the Section 202 Demonstration Pre-Development Grant Program is to provide predevelopment grant funding for architectural and engineering work, site control, and other planning-related expenses that are eligible for funding under the Section 202 Supportive Housing for the Elderly Program. Eligibility for predevelopment grant funding is limited to projects that have received Fund Reservation awards pursuant to the FY 2005 Section 202 SuperNOFA for the Section 202 Supportive Housing for the Elderly Program. Subsequent to providing predevelopment grant funding to the selected eligible applicants, HUD will assess the impact of the availability of such funding on the ability of project Sponsors to expedite the development processing of projects from Section 202 Fund Reservation to Initial Closing within 18 months.

HUD is aware of the complexities of developing Section 202 projects and understands that a lack of predevelopment funding may be a contributing factor in many instances where project Sponsors are not able to move their approved projects from the Fund Reservation award to Initial Closing within the required 18-month time frame. Funding under this program is not intended to duplicate Section 202 Capital Advance funding, but rather to provide a source of funding for predevelopment costs that would otherwise not be reimbursable until Initial Closing or would be payable from eligible funding resources secured outside of Section 202 Capital Advance funding.

B. Authority

The Section 202 Demonstration Pre-Development Grant Program is authorized by the Consolidated Appropriations Resolution, 2003 (Pub. L. 108-7, approved February 20, 2003), the Consolidated Appropriations Act, 2004 (Pub. L. 108-199, approved January 23, 2004), and the Consolidated Appropriations Act, 2005 (Pub. L. 108-447, approved December 8, 2004).

II. Award Information

A. Funding Available

This NOFA makes available approximately $42,178,662 for predevelopment grants to private nonprofit organizations and consumer cooperatives in connection with the development of housing under the Section 202 Supportive Housing for the Elderly Program. The total dollar amount that is available under this Demonstration Pre-Development Grant Program includes approximately $4,440,662 that was provided by the Consolidated Appropriations Resolution, 2003 (Pub. L. 108-7, approved February 20, 2003), $19,882,000 provided by the Consolidated Appropriations Act, 2004 (Pub. L. 108-199, approved January 23, 2004), and $17,856,000 provided by the Consolidated Appropriations Act, 2005 (Pub. L. 108-447, approved December 8, 2004).

B. Funding Process

HUD will make offers to fully fund as many applications as possible that are submitted by Fund Reservation project sponsors that received funding pursuant to the FY 2005 SuperNOFA. Applicants selected for funding under the FY 2005 Section 202 Supportive Housing for the Elderly NOFA are not guaranteed funding under this Demonstration Program.

C. Maximum Grant Award

The maximum grant amount per single application is $400,000. However, no more than $800,000 may be awarded to a single entity or its affiliated organizations. The amount of funding requested must be within the maximum grant award amounts.

D. Reduction of Requested Grant Amount

HUD may make an award in an amount less than requested, if:

1. HUD determines that any of the proposed predevelopment activities are ineligible for funding under the Section 202 Supportive Housing for the Elderly Program;

2. HUD determines that an eligible applicant has not been able to provide sufficient evidence to support the proposed cost of an eligible predevelopment item or activity;

3. HUD determines that a reduced grant would prevent duplicative federal funding; or

4. HUD determines that proposed costs for predevelopment activities are not based on comparable costs for eligible items and activities in the applicant's community. HUD field office staff will review proposed costs in accordance with customary and reasonable costs for such items within the geographical jurisdiction of the respective Multifamily Hub and/or Multifamily Program Center Office. If requested by HUD, eligible applicants must provide supportable evidence of comparable costs for proposed activities.

E. Term of Funded Activities

The grant term is 18 months from the date of the Section 202 Supportive Housing for the Elderly Agreement Letter. Funds not expended by the end of the grant term are subject to recapture and/or repayment if expended on ineligible activities. Failure to complete the development processing of the Section 202 project by the end of the grant term may result in grant termination, grant reduction, or other action deemed appropriate by HUD.

III. Eligibility Information

A. Eligible Applicants

All private nonprofit organizations and nonprofit consumer cooperatives that submitted an application for funding consideration under the FY 2005 SuperNOFA for the Section 202 Supportive Housing for the Elderly Program are eligible to apply for funding under this Section 202 Demonstration Pre-Development Grant Program. (Please refer to the Section 202 Program NOFA (70 FR 14187), published March 21, 2005, for a discussion on the eligibility criteria for the Section 202 program). However, funding awards under this Section 202 Demonstration Pre-Development Grant Program will be restricted to those applicants that are selected for Fund Reservation Awards under the FY 2005 SuperNOFA for the Section 202 Supportive Housing for the Elderly Program. Funding under this program will not be fair shared to each HUD office. Ineligible applicants include:

1. Applicants that failed to submit a request for Fund Reservation under the FY 2005 Section 202 Program NOFA.

2. Applications from eligible applicants that do not receive a Fund Reservation Award under the FY 2005 SuperNOFA for the Section 202 Program.

3. Applications from applicants that are ineligible under the Section 202 program, including public bodies and instrumentalities of public bodies.

4. Applicants submitting proposals involving mixed-financing for additional units.

B. Cost Sharing or Matching

No match required.

C. Other

1. Requirement and Procedures

To receive and administer funding under this Demonstration Program, applicants must fully satisfy the eligibility requirements for participation in the Section 202 Supportive Housing for the Elderly Program, as well as comply with the following:

a. Statutory and Regulatory Requirements. You must comply with all statutory, regulatory, threshold, and public policy requirements listed in Section III (C) of the General Section of the FY 2005 SuperNOFA (70 FR 13576), published on March 21, 2005.

b. Allowable Use of Funds. Grant funds may be used to cover the costs of architectural and engineering work, and other eligible planning activities relating to the development of supportive housing for the elderly under the Section 202 Program. Grantees may use the funding provided under this demonstration program to extend options to purchase or to lease sites, and enter into contracts with qualified third-party individuals, companies, or firms to provide professional services for eligible predevelopment activities related to the development of an elderly housing project that was selected for funding under the FY 2005 Section 202 NOFA. Grantees may not use funds for land acquisition, leasing, new construction, or property rehabilitation, alteration, demolition, or disposition. HUD approval must be granted before a grantee can enter into a contract for professional services with any entity requiring HUD-2530 clearance. Such entities include, but are not limited to, housing consultants (including those instances where eligible Sponsors proposed to provide such services), general contractors, and management agents.

c. Organizational Costs. Eligible organizational expenses and/or costs are limited to those incurred in connection with the organization of an owner entity pursuant to the requirements of the Section 202 Supportive Housing for the Elderly Program.

d. Site Control. Applicants are required to provide evidence of site control, consistent with the requirements of the Section 202 Program, as a condition to being funded under the FY 2005 Section 202 NOFA. Applicants that receive funding awards under this NOFA may utilize this funding to extend site control in accordance with the site control requirements under the Section 202 Supportive Housing for the Elderly Program. For further discussion, see the FY 2005 Section 202 Program NOFA (70 FR 14187), published March 21, 2005.

e. Phase I and Phase II Environmental Site Assessments (ESA). The requirements for Phase I and II ESAs are the same as those that apply to the Section 202 Supportive Housing for the Elderly Program and are contained in the FY 2005 Section 202 Program NOFA.

f. False Statements. See the General Section of the FY 2005 SuperNOFA.

2. Program-Related Threshold Requirements

In addition to the threshold requirements in the General Section of the FY 2005 SuperNOFA, applicants must adhere to all program-specific threshold requirements as detailed in this NOFA. HUD will consider an application non-responsive to this NOFA and will not accept it for processing if the applicant:

a. Is determined to be ineligible (Please refer to Section III(A)(1) of this NOFA for a more detailed discussion on ineligible applicants);

b. Requested more than the maximum grant amount;

c. Is granted a waiver to submit a paper application, but fails to submit the required original and two copies; or

d. Failed to submit the threshold requirements as identified by the asterisk (*) in Section IV(B) of this program NOFA by the deadline date.

IV. Application and Submission Information

A. Addresses To Request Application Package

All information needed for the preparation and submission of this application is included in this program NOFA and the General Section of the FY 2005 SuperNOFA (70 FR 13576), published March 21, 2005. Copies of the General Section, this program NOFA, and the appendix may be downloaded from the Grants.gov Web site at http://www.Grants.gov. If you have difficulty accessing the information, you may call the Grants.gov Help Desk toll-free at (800) 518-GRANTS, or e-mail your questions to support@grants.gov. The Help Desk staff will assist you in accessing the information.

Your application must be transmitted electronically using www.Grants.gov, unless you request and receive a waiver of the requirement for electronic application submittal. See the General Section for further information and instructions pertaining to electronic application submission and waiver request requirements.

For applicants receiving a waiver to submit a paper application, an original and two copies of the completed application package must be received by the appropriate local HUD office on or before Tuesday, June 6, 2006. See Appendix A for a complete listing of the Multifamily Hub Offices and Multifamily Program Centers.

B. Content and Form of Application Submission

You should ensure that your application is complete before transmitting it to the following Web site: http://www.grants.gov and, in cases where a waiver of electronic submission requirement is granted, an original and two copies must be submitted to the appropriate HUD office. Upon receipt of the application by HUD staff, HUD will screen it to determine if there are any curable deficiencies. See Section (V)(B)(2) of this program NOFA for further discussion.

Applicants may submit more than one application to a single field office. However, no more than one application may be submitted per project. All applicable documents must have an original signature. Each application must propose a separate project and the proposed development must be located within the jurisdiction of the appropriate field office. To be eligible for review, an application must contain the required exhibits that include form SF-424, HUD-2880, and the narrative discussions. Forms needed for the application may be obtained from http://www.hudclips.org or http://www.grants.gov. Threshold items are identified by an asterisk (*). Failure to include threshold items in your initial application submission will render your application non-responsive and ineligible for funding by HUD. Applications must contain the required exhibits as listed below:

1. Cover Letter. A brief narrative detailing the project's name, HUD project number, and the name(s), address(es), contact person name(s), and telephone number(s) of the sponsor(s). The letter must also detail the total grant amount being requested under this program NOFA.

2. Standard Form 424—Application for Federal Assistance.

3. * Narrative Demonstrating Need for Predevelopment Funding: This exhibit requires applicants to submit form HUD-2880, Applicant/Recipient Disclosure/Update Report. This form details assistance from other governmental sources previously received in connection with the project. Applicants must also submit a brief narrative describing the financial circumstances that led the applicant to apply for funding assistance with predevelopment activities and how the lack of such assistance has impacted the applicant organization's previous or current development efforts.

4. * Proposed Predevelopment Activities and Budget: This exhibit requires applicants to submit a spreadsheet that specifically identifies the proposed activity(ies) and their anticipated cost. The recommended format is as follows:

Column 1—Clearly identify each eligible predevelopment activity being proposed by the applicant.

Column 2—Identify the anticipated cost for each activity.

The spreadsheet must identify the total predevelopment funding assistance being proposed in the application. No predevelopment grant funds may be expended by participants that do not have HUD-2530 clearance.

5. * Project Development Schedule: This exhibit should include a detailed development schedule that identifies the predevelopment activities being proposed, their projected start and completion dates, the projected completion date for all predevelopment planning activities, and a brief narrative describing the applicant's plan for monitoring this schedule of activities and addressing delays should they occur. All projected development schedules must clearly demonstrate the applicant's ability to move its approved FY 2005 Section 202 elderly housing project from the Fund Reservation to the Initial Closing stage within 18 months of grant approval. In addition, all such schedules must provide a statement addressing how access to predevelopment funding will assist the applicant in moving its FY 2005 Section 202 elderly housing project to Initial Closing within 18 months of Fund Reservation approval. The completion of the Logic Model (form HUD-96010) will assist you in responding to this exhibit.

6. Logic Model (HUD-96010). The logic model is representative of this Section 202 Demonstration Pre-Development Grant Program proposal and serves as the “executive summary” for this grant request. Applicants must ensure that its logic model accurately represents the purpose of the funding request and the expected impact on the development process.

7. Facsimile Transmittal Cover Page (HUD-96011). This form must be used as part of the electronic application to transmit third-party documents and other information as described in the General Section of the SuperNOFA (if applicable).

8. Acknowledgment of Application Receipt (HUD-2993). This is not required for applications submitted electronically.

9. Client Comments and Suggestions (HUD-2994). This is optional.

If changes have been made to any of the forms that were submitted under the FY 2005 Section 202 NOFA, the Department requires that the updated form(s) be resubmitted under this Section 202 Demonstration Pre-Development Grant NOFA.

C. Submission Dates and Times

Your application must be submitted and received electronically by Grants.gov no later than 11:59:59 p.m. eastern time on the application submission date, unless a waiver of the electronic delivery process has been approved by HUD. Please refer to the General Section of the FY 2005 SuperNOFA for instructions on applying for a waiver. If a waiver is granted, you must submit an original and two copies of your application by Tuesday, June 6, 2006. You must comply with the mailing and timely receipt instructions in the General Section of the FY 2005 SuperNOFA and Appendix A of this program NOFA. These instructions have changed from the 2004 SuperNOFA.

D. Funding Restrictions

1. Eligible Activities. Section 202 Demonstration Pre-Development Grant Program funds must be used exclusively to facilitate planning, design, and predevelopment activities for projects funded under the FY 2005 SuperNOFA for the Section 202 Supportive Housing for the Elderly Program. Such activities include architectural and engineering work, site control planning, and other planning activities related to the development of a multifamily housing project funded under the FY 2005 Section 202 Supportive Housing for the Elderly Program. Grantees may not use funds for land acquisition, leasing, new construction, or property rehabilitation, alteration, demolition, or disposition.

a. All expenses related to eligible activities must be limited to those actual costs that are incurred prior to initial closing and be otherwise eligible activities under the Section 202 Program. Activities that are eligible for funding include the following:

(1) Appraisals. The applicant's cost for obtaining the services of a qualified and licensed appraiser to establish the fair market value of the proposed site.

(2) Architect Services. The design fees charged by licensed architectural/engineering firms for construction of the applicant's project.

(3) Engineering Services. The actual cost of boundary survey, topographic survey, soil borings and tests.

(4) Environmental Site Assessment. The actual cost incurred for the environmental site assessment, i.e., Phase I and Phase II.

(5) Consultant Services. Up to 20 percent of the total amount of the contract between the applicant and its consultant for services related to the development and submission of an approvable Section 202 Fund Reservation Application.

(6) Cost Analysis. The cost of the contract between the applicant and a professional with experience in cost estimation, for an independent cost estimate needed to determine the viability of a proposed project as required for firm commitment processing under the Section 202 Program.

(7) Legal Fees. The cost for legal services and title binder fees.

(8) Site Control. The applicant's cost for extending the time for site control of the original site, including option costs necessary to extend the option agreement for up to 18 months, to the closing target date. The proceeds of this grant may not be used for site acquisition.

(9) Market Studies. The applicant's cost for a study completed by a qualified, independent, third-party, market research firm for purposes of examining the need for and verifying the marketability of the proposed project.

(10) Organizational Expenses. The actual cost related to the creation of an owner entity for the proposed project pursuant to Section 202 Program regulations.

(11) Impact Fees. One-time fees local governments charge Sponsor/Owners to offset the impact such housing will have on the community. (Typical impact fees: Traffic, solid waste, sewer, water, electric, gas, police protection, and fire protection).

(12) Relocation expenses. If the project involves displacement of site occupants that are eligible for relocation assistance, indicate the total estimated cost.

(13) Building permits and variance fees. The cost of obtaining building permits and variances.

2. Ineligible Activities. No proposed activity that is deemed to be ineligible will be funded from Section 202 Demonstration Pre-Development Grant funds.

a. Section 202 Demonstration Pre-Development Grant Program funds may not be used to acquire sites or other real property, to fund organizational overhead and/or operating expenses, to pay staff salaries, or fund any planning activity that is otherwise ineligible for assistance under the Section 202 Supportive Housing for the Elderly Program.

b. Funding under this NOFA may not be used to meet Minimum Capital Investment (MCI) requirements for the Section 202 Program.

c. Performance/Payment Bonds (dual obligee).

d. Taxes and interest.

e. Bond premium, builder's risk, liability insurance, fidelity bond insurance, performance bond insurance, cash bond, and insurance premiums.

In the event that funding awarded under this program is used for activities or purposes that have not been approved by HUD, HUD will seek repayment or any other available remedies.

3. Applicants submitting proposals involving mixed-financing for additional units are not eligible to be considered for predevelopment funding under this NOFA.

V. Application Review Information

A. Criteria

HUD Headquarters will select applications for the Section 202 Demonstration Pre-Development Grant funding through a rating process. HUD will award funding under this process until all available funding has been exhausted.

B. Review and Selection Process

1. HUD's application review process will include, but is not limited to, an eligibility review of each predevelopment planning activity being proposed by the applicant, the reasonableness of the proposed cost for each activity, the reasonableness of the applicant's proposed budget, and the ability of project Sponsors to expedite the development processing of projects from the Section 202 Fund Reservation to the Initial Closing stage within the 18-month time frame. All activities must be related to the development of the Section 202 housing project selected under the FY 2005 Section 202 Supportive Housing for the Elderly Program and be otherwise eligible activities under the Section 202 Program.

2. Review for Curable Deficiencies. A curable deficiency is a missing exhibit or portion of an exhibit that will not affect the eligibility of the applicant. The exhibits identified by an asterisk (*) as threshold requirements must be dated on or before the application submission date. Refer to the General Section of the SuperNOFA for additional information regarding procedures for corrections to deficient applications. HUD will screen all applications received by the application submission deadline for curable deficiencies. HUD will notify you in writing if your application is missing any of the exhibits or portions of exhibits, as listed in Section IV(B) of this NOFA, and you will be given 14 calendar days from the date of the HUD written notification to submit the information required to cure the noted deficiencies.

3. Review for Threshold Requirements. All applications must meet the threshold requirements identified in the General Section of the FY 2005 SuperNOFA, and in Section IV(B) and Section III(C)(2) of this program NOFA. Failure to meet any threshold item will render an application ineligible for funding consideration. Please note that Section III(C)(2) of the General Section of the FY 2005 SuperNOFA, and the items identified by an asterisk (*) as listed in Section IV(B) and in Section III(C)(2) of this NOFA, are also threshold requirements and must be dated on or before the application deadline date. Failure to satisfy all threshold requirements at the time of submission will render the application in question as nonresponsive to this NOFA, and the application will be subject to no further consideration. See the General Section of the FY 2005 SuperNOFA for additional procedures for corrections to deficient applications.

4. Technical Review. HUD Multifamily field office staff will review applications that passed the threshold review for compliance with the eligibility criteria set forth in this NOFA. However, HUD will not reject your application based on technical review without notifying you of that rejection and the reason(s) for the rejection, and providing you with an opportunity to appeal. You will have 14 calendar days from the date of HUD's written notice to appeal a technical rejection to the HUD field office. HUD will make a determination on an appeal before making its selection of projects to be forwarded to HUD Headquarters. HUD field office staff will forward to Headquarters a listing of eligible applications that were received by the deadline date, met all eligibility criteria, contained reasonable costs for eligible activities, and included all technical corrections by the designated deadline date.

5. HUD Headquarters will select Section 202 Demonstration Pre-Development Grant applications based on HUD Multifamily Program Centers' rating of the respective FY 2005 Section 202 application, beginning with the highest-rated application nationwide. After this selection, HUD Headquarters will select the next highest-rated application in another Program Center. Only one application will be selected per Multifamily Program Center. However, if there are no approvable applications in other Multifamily Program Centers, the process will begin again with the selection of the next highest-rated application nationwide. More than one application may be selected per HUD Multifamily Program Centers if there are no other approvable applications.

This process will continue into a second and subsequent round(s) until all approvable applications are selected using the available remaining funds. HUD Headquarters will fully fund as many applications as allocated funds will allow. HUD Headquarters will review its selection results to ensure that no single entity (including affiliated entities) receives grant funding in excess of $800,000. Once an organization receives its maximum amount of grant funding, no other projects from that organization will be eligible for selection from the succeeding rounds.

If there is a tie score between two or more applications, HUD will select the applicant with the highest score in Rating Factor 1 of the FY 2005 Section 202 application. If Rating Factor 1 is scored identically, the score in Rating Factor 2, 3, and 4, of the FY 2005 Section 202 application, will be compared in that order, until one of the applications received a higher score. If both applications still score the same, then the application that requests the least funding will be selected.

6. Adjustments to Funding/Reduction of Requested Grant Amount. See Section II(D) of this program NOFA.

VI. Award Administration Information

A. Award Notices

Following the congressional notification process, HUD will issue a press release announcing the selection of awards. Once such an announcement has been made, successful applicants will receive their selection letters and grant agreement via regular or overnight mail. The grant agreement is the legally binding document that establishes a relationship between HUD and the award recipient organization. Once properly executed, it authorizes the obligation and disbursement of funds.

1. As a condition of receiving a grant under this Section 202 Demonstration Pre-Development Program, grantees must open a separate, non-interest bearing account for the receipt and handling of these funds.

2. All applicants that were not selected for funding will receive a non-selection letter.

3. You may request a debriefing on your application in accordance with the General Section of the FY 2005 SuperNOFA. The request must be made to the Director of Multifamily Housing in the HUD field office to which you sent your application.

B. Administrative and National Policy Requirements

The Consolidated Appropriations Act, 2005, requires HUD to obligate all Section 202 funds appropriated for FY 2005 by September 30, 2008. Under 31 U.S.C. 1551, no funds can be disbursed from this account after September 30, 2013. The FY 2003 and FY 2004 Consolidated Appropriations require HUD to obligate all Section 202 Demonstration Pre-Development Grant funding appropriated for the respective fiscal years by September 30, 2006. Under 31 U.S.C. 1551, no funds can be disbursed from the account after September 30, 2011. Under this demonstration program, obligation of funds occurs upon execution of the Grant Agreement.

C. Reporting

Grantees must submit quarterly program performance and financial status reports to their respective Multifamily Hub or Program Center office. Such reports must include a narrative on the progress of each eligible activity undertaken, a statement detailing the funds expended per activity, a narrative on problems encountered to date and how such problems may impact the grantee's proposed predevelopment or development time frame, a narrative on the grantee's plan of corrective action to ensure that its project will be under construction within 18 months of grant approval or less, a listing of the professional firms contracted with, dollar amounts contracted for and services provided to date, a budget summary identifying funding expended to date for eligible activities versus the total grant awarded, and a certification on whether or not the proposed project continues to be viable as of the date of the report.

The project owner is still required to report on its performance based on the Logic Model (form HUD-96010) submitted under the FY 2005 Section 202 NOFA. To supplement the quarterly program performance report, the project owner must submit an updated Logic Model (form HUD-96010). The logic model must indicate the results achieved against the proposed output goal(s) and proposed outcome(s) that were stated in the FY 2005 Section 202 Demonstration Pre-Development Grant Program application and agreed upon by HUD.

D. Environmental Requirements

The provision of assistance under this NOFA is categorically excluded from environmental review under the National Environmental Policy Act of 1969 (42 U.S.C. 4321) and not subject to compliance action for related environmental authorities under 24 CFR 50.19 (b) (1), (3), (5), (8), and (16).

E. Environmental Impact

This NOFA does not direct, provide for assistance or loan and mortgage insurance for, or otherwise govern or regulate, real property acquisition, disposition, leasing, rehabilitation, alteration, demolition, or new construction, or establish, revise, or provide for standards for construction or construction materials, manufactured housing, or occupancy. Accordingly, under 24 CFR 50.19 (c) (1), this NOFA is categorically excluded from environmental review under the National Environmental Policy Act of 1969 (42 U.S.C. 4321).

VII. Agency Contacts

A. For programmatic information, you may contact the appropriate local HUD office, or Alicia Anderson at HUD Headquarters at (202) 708-3000, or you may access the Internet at http://www.hud.gov/grants. Persons with hearing and speech impairments may access the above number via TTY by calling the toll-free Federal Relay Service at (800) 877-8339.

B. For technical assistance in downloading and submitting an application package through www.Grants.gov, contact the Grants.gov Help Desk at (800) 518-GRANTS, or by sending an e-mail to support@grants.gov.

VIII. Other Information

A. Section 102 of the HUD Reform Act, Documentation and Public Access Requirements

Section 102 of the Department of Housing and Urban Development Reform Act of 1989 (42 U.S.C. 3545) (HUD Reform Act) and the regulations codified at 24 CFR part 4, subpart A, contain a number of provisions that are designed to ensure greater accountability and integrity in the provision of certain types of assistance administered by HUD. On January 14, 1992, HUD published a notice that also provides information on the implementation of Section 102 (57 FR 1942). The documentation, public access, and disclosure requirements of Section 102 apply to assistance awarded under this NOFA as follows:

1. Documentation. HUD will ensure that documentation and other information regarding each application submitted pursuant to this NOFA are sufficient to indicate the basis upon which assistance was provided or denied. This material, including any letters of support, will be made available for public inspection for a 5-year period beginning not less than 30 days after the award of the assistance. Material will be made available in accordance with the Freedom of Information Act (5 U.S.C. 552) and HUD's implementing regulations (24 CFR part 15).

2. Debriefing. For a period of at least 120 days, beginning 30 days after the awards for assistance are publicly announced, HUD will provide a debriefing related to an applicant's application. All debriefing requests must be made in writing or by e-mail by the authorized official whose signature appears on the SF-424, or his or her successor in office, and submitted to the person or organization identified as the contact under the section entitled “Agency Contact.” Information provided during a debriefing will include, at a minimum, the final score the applicant received for each rating factor, final evaluator comments for each rating factor, and the final assessment indicating the basis upon which assistance was provided or denied.

3. Disclosures. HUD will make available to the public for 5 years all applicant disclosure reports (form HUD-2880) submitted in connection with this NOFA. Update reports (also reported on form HUD-2880) will be made available along with the applicant disclosure reports, but in no case for a period of less than 3 years. All reports, both applicant disclosures and updates, will be made available in accordance with the Freedom of Information Act (5 U.S.C. 552) and HUD's implementing regulations (24 CFR part 15).

4. Publication of Recipients of HUD Funding. HUD will publish a notice in the Federal Register to notify the public of all decisions made by the Department to provide: a. Assistance subject to Section 102(a) of the HUD Reform Act; and b. Assistance provided through grants or cooperative agreements on a discretionary (non-formula, non-demand) basis, but that is not provided on the basis of a competition.

B. Section 103 of the HUD Reform Act

HUD's regulations implementing Section 103 of the Department of Housing and Urban Development Reform Act of 1989 (42 U.S.C. 3537a), codified at 24 CFR part 4, subpart B, apply to this funding competition. The regulations continue to apply until the announcement of the selection of successful applicants. HUD employees involved in the review of applications and in the making of funding decisions are limited by the regulations in providing advance information to any person (other than an authorized employee of HUD) concerning funding decisions or from otherwise giving any applicant an unfair competitive advantage. Persons who apply for assistance in this competition should confine their inquiries to the subject areas permitted under 24 CFR part 4.

Applicants or employees who have ethics-related questions should contact the HUD Ethics Law Division at (202) 708-3815. (This is not a toll-free number.) HUD employees who have specific program questions should contact the appropriate field office counsel or Headquarters counsel for the program to which the question pertains.

C. Paperwork Reduction Act Statement

The information collection requirements contained in this document are currently approved by the Office of Management and Budget (OMB) under the Paperwork Reduction Act of 1995 (44 U.S.C. 3501-3520) and assigned OMB control number 2502-0267. In accordance with the Paperwork Reduction Act, HUD may not conduct or sponsor, and a person is not required to respond to, a collection of information unless the collection displays a currently valid OMB control number. Public reporting burden for the collection of information is estimated to average 4 hours per annum per respondent for the application and grant administration. This includes the time for collecting, reviewing, and reporting the data for the application, semi-annual reports, and the final report. The information will be used for grantee selection and monitoring of the administration of funds. Response to this request for information is required in order to receive the benefits to be derived.

Dated: April 27, 2006.
Brian D. Montgomery,
Assistant Secretary for Housing—Federal Housing Commissioner.

Appendix A—Local HUD Offices

Notes

1. Your application must be transmitted electronically using www.Grants.gov, unless you request and receive a waiver of the requirement for electronic application submittal. See the General Section of the SuperNOFA (70 FR 13576), published March 21, 2005, for further information and instructions pertaining to electronic application submission and waiver request requirements. The following information applies only to those applicants that have received a waiver to the electronic application submission requirement.

2. If you received a waiver of the electronic application submission requirement, you must send an original and two copies of your application to the appropriate local HUD office having jurisdiction over the locality in which your project will be located. Applicants with proposed projects to be located in the jurisdictions as identified below, in a. through f., must submit their application to the identified HUD office. If you send your application to the wrong local HUD office, it will be rejected. Therefore, if you are uncertain which local HUD office to submit your application to, you are encouraged to contact the local HUD office that is closest to your proposed project location(s) to ascertain the office's jurisdiction and thereby ensure that you submit your application to the correct local HUD office.

a. Applications for projects proposed to be located within the jurisdiction of the Sacramento, California Office must be submitted to the San Francisco, California Office.

b. Applications for projects proposed to be located within the jurisdiction of the Cincinnati, Ohio Office must be submitted to the Columbus, Ohio Office.

c. Applications for projects proposed to be located in Maryland that are within the jurisdiction of the Washington, DC Office must be submitted to the Baltimore, Maryland Office.

d. Applications for projects proposed to be located in Northern Virginia that are within the jurisdiction of the Washington, DC Office must be submitted to the Richmond, Virginia Office.

e. Applications for projects proposed to be located within the jurisdiction of the Grand Rapids, Michigan Office must be submitted to the Detroit, Michigan Office.

f. Applications for projects proposed to be located within the jurisdiction of the Anchorage, Alaska Office must be submitted to the Seattle, Washington Office.

HUD—BOSTON HUB; HARTFORD OFFICE: One Corporate Center, 19th Floor, Hartford, CT 06103-3220, (860) 240-4800, TTY Number: (860) 240-4665 | HUD—BUFFALO HUB; BUFFALO OFFICE: Lafayette Court Building, 2nd Floor, 465 Main Street, Buffalo, NY 14203-1780, (716) 551-5755, ext. 5000, TTY Number: (716) 551-5787.
BOSTON OFFICE: Thomas P. O'Neill, Jr. Federal Building, Room 301, 10 Causeway Street, Boston, MA 02222-1092, (617) 994-8200, TTY Number: (617) 565-5453 | HUD—PHILADELPHIA HUB; PHILADELPHIA OFFICE: The Wanamaker Building, 100 Penn Square East, Philadelphia, PA 19107-3380, (215) 656-0609, TTY Number: (215) 656-3452.
MANCHESTER OFFICE: 1000 Elm Street, 8th Floor, Manchester, NH 03101, (603) 666-7510, TTY Number: (603) 666-7518 | CHARLESTON OFFICE: 405 Capitol Street, Suite 708, Charleston, WV 25301-1795, (304) 347-7000, TTY Number: (304) 347-5332.
PROVIDENCE OFFICE: 121 South Main Street, Suite 300, Providence, RI 02903-7104, (401) 277-8300, TTY Number: (401) 528-5403 | NEWARK OFFICE: One Newark Center, Thirteenth Floor, Newark, NJ 07102-5260, (973) 622-7900, TTY Number: (973) 645-3298.
| PITTSBURGH OFFICE: 339 Sixth Avenue, Sixth Floor, Pittsburgh, PA 15222-2507, (412) 644-6428, TTY Number: (412) 644-5747.
HUD—NEW YORK HUB; NEW YORK OFFICE: 26 Federal Plaza, Room 3200, New York, NY 10278-0068, (212) 264-8000, TTY Number: (212) 264-0927 | HUD—ATLANTA HUB; ATLANTA OFFICE: ATTN: Multifamily Housing, 12th Floor, 40 Marietta Street—Five Points Plaza, Atlanta, GA 30303-2806, (404) 331-4976, TTY Number: (404) 730-2654.
HUD—BALTIMORE HUB; BALTIMORE OFFICE: City Crescent Building, Fifth Floor, 10 South Howard Street, Baltimore, MD 21201-2505, (410) 962-2520, TTY Number: (410) 962-0106 | SAN JUAN OFFICE: Edificio Administracion de Terrenos, 171 Carlos Chardon Avenue, Suite 301, San Juan, PR 00918-0903, (787) 766-5401, TTY Number: (787) 766-5104.
RICHMOND OFFICE: 600 East Broad Street, Richmond, VA 23219, (804) 771-2100, ext. 3839, TTY Number: (804) 771-2038 | LOUISVILLE OFFICE: 601 West Broadway, Room 110, Louisville, KY 40202, (502) 582-5251, TTY Number: (866) 800-028
HUD—GREENSBORO HUB; GREENSBORO OFFICE: Asheville Building, 1500 Pinecroft Road, Suite 401, Greensboro, NC 27407-3838, (336) 547-4000, TTY Number: (336) 547-4020 | KNOXVILLE OFFICE: John J. Duncan Federal Building, Third Floor, Room #315, 710 Locust Street, Knoxville, TN 37902-2526, (423) 545-4384, TTY Number: (423) 545-4559.
COLUMBIA OFFICE: Strom Thurmond Federal Building, 13th Floor, 1835-45, Assembly Street, Columbia, SC 29201-2480, (803) 765-5592, TTY Number: (803) 253-3209 | NASHVILLE OFFICE: 235 Cumberland Bend, Suite 200, Nashville, TN 37228-1803, (615) 736-5213, TTY Number: (866) 503-0264.
HUD—JACKSONVILLE HUB; JACKSONVILLE OFFICE: Charles Bennett Federal Building, Suite 1015, 400 West Bay Street, Jacksonville, FL 32202, (904) 232-2626, TTY Number: (904) 232-2631 | HUD—DETROIT HUB; DETROIT OFFICE: Patrick V. McNamara Federal Building, 477 Michigan Avenue, Suite 1635, Detroit, MI 48226-2592, (313) 226-7900, TTY Number: (313) 226-6899.
BIRMINGHAM OFFICE: Medical Forum Building, 950 22nd Street, North, Suite 900, Birmingham, AL 35203-5301, (205) 731-2630, TTY Number: (205) 731-2624 | HUD—COLUMBUS HUB; COLUMBUS OFFICE: 200 North High Street, 7th Floor, Columbus, OH 43215-2499, (614) 469-5737, TTY Number: (614) 469-6694.
JACKSON OFFICE: Doctor A.H. McCoy Federal Building, Suite 910, 100 West Capitol Street, Jackson, MS 39269-1096, (601) 965-4700, TTY Number: (601) 965-4171 | CLEVELAND OFFICE: U.S. Bank Centre, 1350 Euclid Avenue, Suite 500, Cleveland, OH 44115-1815, (216) 522-4058, TTY Number: (216) 522-2261.
HUD—CHICAGO HUB, CHICAGO OFFICE: Ralph H. Metcalfe Federal Building, 77 West Jackson Boulevard, 23rd Floor, Chicago, IL 60604-3507, (312) 353-5680, TTY Number: (312) 353-5944 | HUD—MINNEAPOLIS HUB; MINNEAPOLIS OFFICE; 920 Second Avenue South, Suite 1300, Minneapolis, MN 55402-4012, (612) 370-3051, TTY Number: (612) 370-3186
INDIANAPOLIS OFFICE: 151 North Delaware Street, Indianapolis, IN 46204-2526, (317) 226-6303, ext. 6482 or 6831 | MILWAUKEE OFFICE: Henry S. Reuss Federal Plaza, Suite 1380, 310 West Wisconsin Avenue, Milwaukee, WI 53203-2289, (414) 297-3214, ext. 8673, TTY Number: (414) 297-1423.
HUD—FT. WORTH HUB; LITTLE ROCK OFFICE: TCBY Tower, Suite 900, 425 West Capitol Avenue, Little Rock, AR 72201-3488, (501) 324-5931, TTY Number: (501) 324-5931 | HUD—KANSAS CITY HUB; DES MOINES OFFICE: Federal Building, Room 239, 210 Walnut Street, Des Moines, IA 50309-2155, (515) 284-4583, TTY Number: (515) 284-4728.
NEW ORLEANS OFFICE: Hale Boggs Federal Building, Ninth Floor, 500 Poydras Street, New Orleans, LA 70130-3099, (504) 589-7200, TTY Number: (504) 589-7279 | KANSAS CITY OFFICE: Gateway Tower II, Room 200, 400 State Avenue, Kansas City, KS 66101-2406, (913) 551-5462, TTY Number: (913) 551-6972.
FT. WORTH OFFICE: 801 Cherry Street, PO Box 2905, Fort Worth, TX 76113-2905, (817) 978-5965, TTY Number: (817) 978-5595 | OMAHA OFFICE: Executive Tower Centre, Suite 100, 10909 Mill Valley Road, Omaha, NE 68154-3955, (402) 492-3122, TTY Number: (402) 492-3183.
HOUSTON OFFICE: 1301 Fannin, Suite 2200, Houston, TX 77002, (713) 718-3199, TTY Number: (713) 718-3289 | ST. LOUIS OFFICE: Robert A. Young Federal Building, Third Floor, 1222 Spruce Street, Room 3203, St. Louis, MO 63103-2836, (314) 539-6583, TTY Number: (314) 539-6331.
SAN ANTONIO OFFICE: 106 South St. Mary's, Suite 405, San Antonio, TX 78205, (210) 475-6800, TTY Number: (210) 475-6885 | OKLAHOMA CITY OFFICE: 301 N.W. 6th, Suite 200, Oklahoma City, OK 73102, (405) 609-8410, TTY Number: (405) 609-8480.
HUD—DENVER HUB; DENVER OFFICE: UMB Bank Building, 23rd Floor, 1670 Broadway, Denver, CO 80202, (303) 672-5343, TTY Number: (303) 672-5113 | HUD—LOS ANGELES HUB; LOS ANGELES OFFICE: 611 West 6th Street, Suite 800, Los Angeles, CA 90017-3106, (213) 894-8000, TTY Number: (213) 894-8133.
HUD—SAN FRANCISCO HUB; PHOENIX OFFICE: One North Central, Suite 600, Phoenix, AZ 85004, (602) 379-7149, TTY Number: (602) 379-4557 | HUD—SEATTLE HUB; PORTLAND OFFICE: 400 Southwest Sixth Avenue, Suite 700, Portland, OR 97204-1632, (971) 222-2600, TTY Number: (971) 222-0357.
SAN FRANCISCO OFFICE: 600 Harrison Street, 3rd Floor, San Francisco, CA 94107-1300, (414) 436-8356, TTY Number: (415) 436-6594 | SEATTLE OFFICE: 909 First Avenue, Seattle, WA 98104-5254, (206) 220-5241, TTY Number: (206) 220-5254.
HONOLULU OFFICE: 500 Ala Moana Boulevard, Suite 3A, Honolulu, HI 96813, (808) 522-8185, TTY Number: (808) 522-8193 |

[FR Doc. 06-4207 Filed 5-1-06; 4:00 pm]

BILLING CODE 4210-67-P